DEPARTMENT OF LABOR

Employment and Training Administration

[TA-W-53,858]

Elo Touchsystems, Inc., a Subsidiary of Tyco Electronics, Fremont, CA; Notice of Termination of Investigation

Pursuant to section 221 of the Trade Act of 1974, as amended, an investigation was initiated on December 22, 2003 in response to a petition filed by a company official on behalf of workers at Elo TouchSystems, Inc., a subsidiary of Tyco Electronics, Fremont, California.

The petitioner has requested that the petition be withdrawn. Consequently, the investigation has been terminated.

Signed at Washington, DC this 12th day of January 2004.
Linda G. Poole,
Certifying Officer, Division of Trade Adjustment Assistance.

[FR Doc. 04-2599 Filed 2-5-04; 8:45 am]

BILLING CODE 4510-30-P